FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Fachel International LLC dba Fachel Shipping & Logistics (NVO & OFF), 6331 Belair Road, Baltimore, MD 21206, Officers: Chinyere W. Osasuyi, Chief Executive Manager (QI), Famous I. Osasuyi, Chief Executive Member. Application Type: QI Change.

National Air Cargo, Inc. (NVO & OFF), 350 Windward Drive, Orchard Park, NY 14127. Officers: Margaret Bradford, Assistant Secretary (QI), Christopher J. Alf, President. Application Type: QI Change.

Perimeter International dba Perimeter Logistics (NVO & OFF), 2700 Story Road, Suite 150, Irving, TX 75038. Officers: John G. Eastland, Assistant Secretary (QI), Merry L. LaMothe, CEO. Application Type: New NVO & OFF License.

Sol Intercargo Inc (NVO), 2792 NW 24th Street, Rear, Miami, FL 33142. Officer: Alma J. Martinez, President (QI). Application Type: New NVO License.

By the Commission.
Dated: October 21, 2013.
Karen V. Gregory,
Secretary.

[FR Doc. 2013-25023 Filed 10-23-13; 8:45 am]

BILLING CODE 6730-01-P